DEPARTMENT OF AGRICULTURE

Submission for OMB Review; Comment Request

September 22, 2020.

The Department of Agriculture has submitted the following information collection requirement(s) to OMB for review and clearance under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 26, 2020 will be considered. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Food Safety and Inspection Service

Title: In-Home Food Safety Behaviors and Consumer Education: Web Survey.

OMB Control Number: 0583-0178.

Summary of Collection: The U.S. Department of Agriculture's (USDA) Food Safety and Inspection Service (FSIS) has been delegated the authority to exercise the functions of the Secretary of Agriculture (7 CFR 2.18, 2.53) as specified in the Federal Meat Inspection Act and the Poultry Products Inspection Act (21 U.S.C. 453, et seq., 601 et. seq.) FSIS protects the public by verifying that meat, poultry, and processed egg products are wholesome; not adulterated; and properly marked, labeled, and packaged. USDA FSIS' Office of Public Affairs and Consumer Education (OPACE) ensures that all segments of the farm-to-table chain receive valuable food safety information. The consumer education programs developed by OPACE's inform the public on how to safely handle, prepare, and store meat, poultry, and processed egg products to minimize incidence or foodborne illness. FSIS will contact web-based surveys of consumers.

Need and Use of the Information: Finding from the web surveys will provide information on how FSIS communication programs and materials affect consumer understanding of recommended safe food handling practices and insight into how to effectively inform consumers of recommended practices. The results of this exploratory research will be used to enhance communication programs and materials to improve consumers' food safety behaviors and help prevent foodborne illness.

Description of Respondents: Individuals or households.

Number of Respondents: 9,092.

Frequency of Responses: Reporting: One time.

Total Burden Hours: 1,956.

Ruth Brown,
Departmental Information Collection Clearance Officer.

[FR Doc. 2020-21223 Filed 9-24-20; 8:45 am]

BILLING CODE 3410-DM-P